DEPARTMENT OF COMMERCE

National Oceanic and Atmospheric Administration

RIN 0648-XU45

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene a web based meeting of the ABC Control Rule Working Group (Group).

DATES: The webinar meeting will convene at 10 a.m. eastern time on Friday, March 5, 2010 and is expected end at 12 noon.

ADDRESSES: The webinar will be accessible via internet. Please go to the Gulf of Mexico Fishery Management Council's website at www.gulfcouncil.org for instructions.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The ABC Control Rule Working Group will meet to discuss and finalize a draft of the acceptable biological catch (ABC) control rule being developed. The discussion will include completion of a table of dimensions, tiers within dimensions, and points for use in developing the appropriate probability of overfishing to use for stocks that have adequate data to use the P-star approach to determining ABC. For data-poor stocks, those with inadequate data to apply the P-star approach, the Group will complete development of a decision tree of dimensions and tiers within dimensions to use in selecting an appropriate alternative approach to setting ABC that makes the best use of the available data. For each of the methods, the Group will select stocks to use as case studies in applying the method. The Group will also discuss what advice it can provide to the Council on setting a minimum stock threshold below which harvest will not be allowed.

Copies of the agenda and other related materials can be obtained by calling (813) 348-1630. Materials will also be available to download from the ABC Control Rule Working Group folder of the Council's FTP site (http://ftp.gulfcouncil.org, login i.d. is anonymous, leave password blank).

Although other non-emergency issues not on the agenda may come before the ABC Control Rule Working Group for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This webinar is accessible to people with disabilities. For assistance with any of our webinars contact Tina O'Hern at the Council (see ADDRESSES) at least 5 working days prior to the webinar.

Dated: February 16, 2010.
William D. Chappell,
Acting Director, Office of Sustainable Fisheries, National Marine Fisheries Service.

[FR Doc. 2010-3197 Filed 2-18-10; 8:45 am]

BILLING CODE 3510-22-S